DEPARTMENT OF ENERGY

Federal Energy Regulatory Commission

Combined Notice of Filings #1

Take notice that the Commission received the following exempt wholesale generator filings:

Docket Numbers: EG16-84-000.

Applicants: Electra Wind, LLC.

Description: Electra Wind, LLC Notice of Self-Certification of Exempt Wholesale Generator Status.

Filed Date: 4/8/16.

Accession Number: 20160408-5029.

Comments Due: 5 p.m. ET 4/29/16.

Docket Numbers: EG16-85-000.

Applicants: Osborn Wind Energy, LLC.

Description: Notice of Self-Certification of Exempt Wholesale Generator Status of Osborn Wind Energy, LLC.

Filed Date: 4/8/16.

Accession Number: 20160408-5117.

Comments Due: 5 p.m. ET 4/29/16.

Take notice that the Commission received the following electric rate filings:

Docket Numbers: ER16-1148-000.

Applicants: Tenaska Energía de Mexico, S. de R. L. d.

Description: Supplement to March 11, 2016 Tenaska Energia de Mexico, S. de R. L. de C.V. tariff filing.

Filed Date: 4/7/16.

Accession Number: 20160407-5234.

Comments Due: 5 p.m. ET 4/21/16.

Docket Numbers: ER16-1325-000.

Applicants: Mesquite Solar 2, LLC.

Description: Supplement to April 1, 2016 Mesquite Solar 2, LLC tariff filing.

Filed Date: 4/5/16.

Accession Number: 20160405-5209.

Comments Due: 5 p.m. ET 4/22/16.

Docket Numbers: ER16-1326-000.

Applicants: Mesquite Solar 3, LLC.

Description: Supplement to April 1, 2016 Mesquite Solar 3, LLC tariff filing.

Filed Date: 4/5/16.

Accession Number: 20160405-5210.

Comments Due: 5 p.m. ET 4/22/16.

Docket Numbers: ER16-1327-000.

Applicants: Copper Mountain Solar 4, LLC.

Description: Supplement to April 1, 2016 Copper Mountain Solar 4, LLC tariff filing.

Filed Date: 4/5/16.

Accession Number: 20160405-5208.

Comments Due: 5 p.m. ET 4/22/16.

Docket Numbers: ER16-1365-000.

Applicants: Alabama Power Company.

Description: § 205(d) Rate Filing: Southern Power (Edward L. Addison Units 1-4) IA Amendment Filing to be effective 3/24/2016.

Filed Date: 4/8/16.

Accession Number: 20160408-5093.

Comments Due: 5 p.m. ET 4/29/16.

Docket Numbers: ER16-1366-000.

Applicants: Copper Mountain Solar 4, LLC.

Description: Baseline eTariff Filing: Copper Mountain Solar 4, LLC Certificate of Concurrence to Joint Use Agreement to be effective 4/8/2016.

Filed Date: 4/8/16.

Accession Number: 20160408-5094.

Comments Due: 5 p.m. ET 4/29/16.

Docket Numbers: ER16-1367-000.

Applicants: PJM Interconnection, L.L.C.

Description: § 205(d) Rate Filing: Revised Service Agreement No. 4267; Queue Z1-091 (WMPA Assignment) to be effective 9/21/2015.

Filed Date: 4/8/16.

Accession Number: 20160408-5106.

Comments Due: 5 p.m. ET 4/29/16.

Take notice that the Commission received the following public utility holding company filings:

Docket Numbers: PH16-6-000.

Applicants: Starwood Energy Group Global, L.L.C.

Description: Starwood Energy Group Global, L.L.C. submits FERC 65-B Material Change in Facts of Waiver Notification.

Filed Date: 4/8/16.

Accession Number: 20160408-5067.

Comments Due: 5 p.m. ET 4/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2016.
Nathaniel J. Davis, Sr.,
Deputy Secretary.

[FR Doc. 2016-08601 Filed 4-13-16; 8:45 am]

BILLING CODE 6717-01-P